SMALL BUSINESS ADMINISTRATION

[Declaration of Disaster #P002]

State of North Carolina (Amendment #1)

In accordance with a notice received from the Federal Emergency Management Agency, dated December 20, 2002, the above numbered declaration is hereby amended to include Caldwell, Davie, Edgecombe, Johnston, Northampton, Polk, Warren, Wayne and Wilson Counties in the State of North Carolina as disaster areas due to damages caused by a severe ice storm occurring from December 4, 2002, and continuing through December 6, 2002.

All other information remains the same, i.e., the deadline for filing applications for physical damage is February 10, 2003.

(Catalog of Federal Domestic Assistance Program Nos. 59008).
Dated: December 31, 2002.
S. George Camp,
Acting Associate Administrator for Disaster Assistance.

[FR Doc. 03-510 Filed 1-9-03; 8:45 am]

BILLING CODE 8025-01-P